DEPARTMENT OF THE INTERIOR

Bureau of Land Management

[LLWO320000L1320000.PP; OMB Control Number 1004-0073]

Renewal of Approved Information Collection

AGENCY: Bureau of Land Management, Interior.

ACTION: 30-Day Notice and Request for Comments.

SUMMARY: The Bureau of Land Management (BLM) has submitted an information collection request to the Office of Management and Budget (OMB) for a 3-year renewal of OMB Control Number 1004-0073 under the Paperwork Reduction Act. This control number covers paperwork requirements in 43 CFR parts 3400 through 3480, which cover management of Federal coal resources.

DATES: The OMB is required to respond to this information collection request within 60 days but may respond after 30 days. Therefore, written comments should be received on or before April 21, 2010.

ADDRESSES: You may submit comments directly to the Desk Officer for the Department of the Interior (OMB #1004-0073), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. You may also send a copy of your comments by electronic mail to jean_sonneman@blm.gov.

FOR FURTHER INFORMATION CONTACT: You may contact John A. Lewis, Division of Solid Minerals at (202) 912-7117 (Commercial or FTS). Persons who use a telecommunication device for the deaf (TDD) may call the Federal Information Relay Service (FIRS) on 1-800-877-8339, to contact Mr. Lewis. You may also contact Mr. Lewis to obtain a copy, at no cost, of the regulations and forms that require this collection of information.

SUPPLEMENTARY INFORMATION: The following information is provided for the information collection:

Title: Coal Management (43 CFR 3400-3480).

Forms:

• Form 3400-12; Coal Lease.

• Form 3440-1; License to Mine.

OMB Control Number: 1004-0073.

Abstract: This notice pertains to the collection of information pertaining to the leasing and development of Federal coal. The BLM uses the information to determine if applicants and bidders are qualified to hold a lease, and to manage Federal coal resources. The information collections covered by this notice are found at 43 CFR parts 3400 through 3480 and in the forms listed above.

Frequency: On occasion for most of the collections. Annually for a few of the collections.

Estimated Number and Description of Respondents: Approximately 1,235 applicants, lessees, and interested parties.

Estimated Reporting and Recordkeeping “Hour” Burden: The following chart details the individual components and respective hour burden estimates of this information collection request:

A. Type of response | B. Number of responses annually | C. Hours per response | D. Annual hour burden (B × C)
43 CFR Part 3410—Application for an Exploration License | 10 | 36 | 360
43 CFR Part 3410—Relinquishment of an Exploration License | 5 | 12 | 60
43 CFR Part 3410—Modification of an Exploration Plan | 1 | 1 | 1
43 CFR Part 3410—Collection and Submission of Data | 5 | 18 | 90
43 CFR Part 3420, Subpart 3420—Response to Call for Coal Resource and Other Resource Information/Individuals | 1 | 3 | 3
43 CFR Part 3420, Subpart 3420—Response to Call for Coal Resource and Other Resource Information/Private Sector | 1 | 3 | 3
43 CFR Part 3420, Subpart 3420—Response to Call for Coal Resource and Other Resource Information/State, Local, and Tribal Governments | 1 | 3 | 3
43 CFR Part 3420, Subpart 3420—Surface Owner Consultation/Individuals | 1 | 1 | 1
43 CFR Part 3420, Subpart 3420—Surface Owner Consultation/Private Sector | 1 | 1 | 1
43 CFR Part 3420, Subpart 3420—Surface Owner Consultation/State, Local, and Tribal Governments | 1 | 1 | 1
43 CFR Part 3420, Subpart 3420—Expressions of Leasing Interest | 1 | 7 | 7
43 CFR Part 3420, Subpart 3422—Fair Market Value and Maximum Economic Recovery | 1 | 7 | 7
43 CFR Part 3420, Subpart 3422—Bids in Response to Notice of Sale | 1 | 56 | 56
43 CFR Part 3420, Subpart 3422—Consultation with the Attorney General | 1 | 4 | 4
43 CFR Part 3420, Subpart 3422—Award of Lease Form 3400-12 | 3 | 25 | 75
43 CFR Part 3420, Subpart 3425—Application Nominating a Tract for a Competitive Lease Sale | 3 | 300 | 900
43 CFR Part 3420, Subpart 3427—Surface Owner Consent | 1 | 1 | 1
43 CFR Part 3430, Subpart 3430—Preference Right Leases Form 3400-12 and non-form data | 1 | 800 | 800
43 CFR Part 3430, Subpart 3432—Lease Modifications | 8 | 12 | 96
43 CFR Part 3440—Licenses to Mine Form 3440-1 | 1 | 21 | 21
43 CFR Part 3450, Subpart 3452—Relinquishment of a Lease | 2 | 18 | 36
43 CFR Part 3450, Subpart 3453—Transfers by Assignment, Sublease, or Otherwise | 8 | 10 | 80
43 CFR Part 3470, Subpart 3471—Land Description Requirements | 21 | 3 | 63
43 CFR Part 3470, Subpart 3471—Future Interest Lease Applications | 1 | 16 | 16
43 CFR Part 3470, Subpart 3472—General Qualification Requirements | 9 | 3 | 27
43 CFR Part 3470, Subpart 3472—Other Qualification Requirements/Private Sector | 1 | 1 | 1
43 CFR Part 3470, Subpart 3472—Other Qualification Requirements/Public Bodies | 1 | 1 | 1
43 CFR Part 3470, Subpart 3474—Bonds | 147 | 8 | 1,176
43 CFR Part 3480, Subpart 3481—Accident/Unsafe Conditions Report | 1 | 1 | 1
43 CFR Part 3480, Subpart 3482—Exploration Plans | 460 | 16 | 7,360
43 CFR Part 3480, Subpart 3482—Resource Recovery and Protection Plans | 980 | 20 | 19,600
43 CFR Part 3480, Subpart 3482—Modification of Exploration Plans and Resource Recovery and Protection Plans | 79 | 16 | 1,264
43 CFR Part 3480, Subpart 3482—Mining Operations Maps | 311 | 20 | 6,220
43 CFR Part 3480, Subpart 3483—Lease Suspensions | 6 | 21 | 126
43 CFR Part 3480, Subpart 3483—Request for Payment of Advance Royalty in Lieu of Continued Operation | 12 | 22 | 264
43 CFR Part 3480, Subpart 3484—Drill and Geophysical Logs | 22 | 1 | 22
43 CFR Part 3480, Subpart 3484—Unexpected Wells or Drill Holes | 6 | 1 | 6
43 CFR Part 3480, Subpart 3485—Waivers, Suspensions, and Reductions of Rents/Royalty Rate Reductions | 6 | 24 | 144
43 CFR Part 3480, Subpart 3485—Exploration Reports | 100 | 16 | 1,600
43 CFR Part 3480, Subpart 3485—Production Reports and Payments and Maintenance of and Access to Records | 1,323 | 10 | 13,230
43 CFR Part 3480, Subpart 3486—Address of Responsible Party | 2 | 1 | 2
43 CFR Part 3480, Subpart 3486—Correction Report | 1 | 10 | 10
43 CFR Part 3480, Subpart 3487—Application for Formation or Modification of Logical Mining Unit | 2 | 170 | 340
Totals | 3,549 |  | 54,079

60-Day Notice: As required in 5 CFR 1320.8(d), the BLM published a 60-day notice in the Federal Register on January 5, 2010 (75 FR 425), soliciting comments from the public and other interested parties. The comment period closed on March 8, 2010. The BLM did not receive any comments from the public in response to this notice, or unsolicited comments from respondents covered under these regulations.

Type of Review: Revision of a currently approved information collection.

Affected Public: Applicants, bidders, lessees, and operators seeking to obtain or maintain interests in Federal coal resources under the Mineral Leasing Act and other mining statutes.

Obligation to Respond: Most of the information collections are required to obtain or retain benefits. A few are mandatory in specific circumstances. A few are voluntary.

Annual Responses: 3,549.

Completion Time per Response: Varies from 1 hour to 800 hours.

Annual Burden Hours: 54,079 hours.

Annual Non-hour Burden Cost: $625,793 for document processing fees associated with some of these information collection requirements.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0073 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-6359 Filed 3-22-10; 8:45 am]

BILLING CODE 4310-84-P